DEPARTMENT OF ENERGY

Federal Energy Regulatory Commission

Combined Notice of Filings #2

Take notice that the Commission received the following electric corporate filings:

Docket Numbers: EC16-50-000.

Applicants: The Narragansett Electric Company.

Description: Application for Authorization Pursuant to Section 203 of the Federal Power Act to Acquire Interconnection Facilities, Requests for Confidential Treatment and Certain Waivers of The Narragansett Electric Company.

Filed Date: 12/11/15.

Accession Number: 20151211-5179.

Comments Due: 5 p.m. ET 1/4/16.

Take notice that the Commission received the following electric rate filings:

Docket Numbers: ER15-1524-001.

Applicants: PacifiCorp.

Description: Compliance filing: OATT Formula Rate Schedule 10 Loss Factor Compliance Filing to be effective 12/1/2015.

Filed Date: 12/11/15.

Accession Number: 20151211-5151.

Comments Due: 5 p.m. ET 1/4/16.

Docket Numbers: ER16-182-001.

Applicants: Cameron Ridge II, LLC.

Description: Tariff Amendment: Amendment to 1 to be effective 12/31/2015.

Filed Date: 12/11/15.

Accession Number: 20151211-5150.

Comments Due: 5 p.m. ET 1/4/16.

Docket Numbers: ER16-507-000.

Applicants: PacifiCorp.

Description: Section 205(d) Rate Filing: Idaho Power JOOA Concurrence to be effective 10/30/2015.

Filed Date: 12/11/15.

Accession Number: 20151211-5152.

Comments Due: 5 p.m. ET 1/4/16.

Docket Numbers: ER16-508-000.

Applicants: California Independent System Operator Corporation.

Description: Tariff Cancellation: Termination of IID APSA to be effective 2/22/2016.

Filed Date: 12/11/15.

Accession Number: 20151211-5156.

Comments Due: 5 p.m. ET 1/4/16.

Docket Numbers: ER16-509-000.

Applicants: NSTAR Electric Company.

Description: Initial rate filing: Exelon West Medway Design and Engineering Agreement to be effective 12/11/2015.

Filed Date: 12/11/15.

Accession Number: 20151211-5157.

Comments Due: 5 p.m. ET 1/4/16.

Docket Numbers: ER16-510-000.

Applicants: NSTAR Electric Company.

Description: Initial rate filing: NRG Canal Design and Engineering Agreement to be effective 12/11/2015.

Filed Date: 12/11/15.

Accession Number: 20151211-5160.

Comments Due: 5 p.m. ET 1/4/16.

Docket Numbers: ER16-511-000.

Applicants: Southwestern Public Service Company.

Description: Section 205(d) Rate Filing: 2015-12-11_SPS-CapRkSlr-E&P-686-0.0.0—Filing to be effective 12/12/2015.

Filed Date: 12/11/15.

Accession Number: 20151211-5197.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2015.
Nathaniel J. Davis, Sr.,
Deputy Secretary.

[FR Doc. 2015-31719 Filed 12-16-15; 8:45 am]

BILLING CODE 6717-01-P